DEPARTMENT OF COMMERCE

National Oceanic and Atmospheric Administration

[RTID 0648-XB198]

Caribbean Fishery Management Council; Public Meeting

AGENCY: National Marine Fisheries Service (NMFS), National Oceanic and Atmospheric Administration (NOAA), Commerce.

ACTION: Notice of public meeting.

SUMMARY: The Caribbean Fishery Management Council (CFMC) will hold the 174th public meeting (virtual) to address the items contained in the tentative agenda included in the SUPPLEMENTARY INFORMATION.

DATES: The 174th CFMC public meeting (virtual) will be held on July 21, 2021, from 9 a.m. to 4 p.m. The meeting will be at AST (U.S. Caribbean time, presently same as EST).

ADDRESSES: You may join the 174th CFMC public meeting (virtual) via Zoom, from a computer, tablet or smartphone by entering the following address:

Join Zoom Meeting: https://us02web.zoom.us/j/83060685915?pwd=VmVsc1orSUtKck8xYk1XOXNDY1ErZz09.

Meeting ID: 830 6068 5915.

Passcode: 995658.

One tap mobile:

+17879451488,,83060685915#,,,,,,0#,,995658# Puerto Rico

+17879667727,,83060685915#,,,,,,0#,,995658# Puerto Rico

Dial by your location:

+1 787 945 1488 Puerto Rico

+1 787 966 7727 Puerto Rico

+1 939 945 0244 Puerto Rico

Meeting ID: 830 6068 5915.

Passcode: 995658.

In case there are problems and we cannot reconnect via Zoom, the meeting will continue using GoToMeeting.

You can join the meeting from your computer, tablet or smartphone. https://global.gotomeeting.com/join/971749317. You can also dial in using your phone. United States: +1 (408) 650-3123, Access Code: 971-749-317.

FOR FURTHER INFORMATION CONTACT: Miguel A. Rolón, Executive Director, Caribbean Fishery Management Council, 270 Muñoz Rivera Avenue, Suite 401, San Juan, Puerto Rico 00918-1903, telephone: (787) 398-3717.

SUPPLEMENTARY INFORMATION: The following items included in the tentative agenda will be discussed:

July 21, 2021

9 a.m.-9:30 a.m.

—Call to Order

—Roll Call

—Adoption of Agenda

—Consideration of 173nd Council Meeting Verbatim Transcriptions

—Executive Director's Report

9:30 a.m.-10:30 a.m.

—Five year Strategic Plan Presentation—Dr. M. Duval

10:30 a.m.-11 a.m.

—Update on Fishery Ecosystem Plan Stakeholder Engagement Workshops—Dr. M. Duval

11 a.m.-11:30 p.m.

—SSC Report—Dr. Richard Appeldoorn

11:30 a.m.-12 p.m.

—Closed Seasons for Certain Species—Dr. Mitchell Scharer

12 p.m.-1 p.m.

—Lunch

1 p.m.-1:30 p.m.

—Draft Tech Memo on Managing with ACLs for Data-Limited Stocks.

1:30 p.m.-2 p.m.

—Enforcement Issues with Nassau Grouper and other Fish Species in St. Thomas/St. John, USVI

2 p.m.-2:30 p.m.

—DAP Chairs Report on Buoy Gear Federal Regulations

2:30 p.m.-4 p.m.

—Other Business

—Capt. Silva's Letter on Deepwater Snapper Grouper Fishery (Letter in Spanish to be Read into the Record for Translation)

—Public Comment Period (5 minutes each)

—Next Council Meetings

—Adjourn

Note (1): Other than starting time and dates of the meetings, the established times for addressing items on the agenda may be adjusted as necessary to accommodate the timely completion of discussion relevant to the agenda items. To further accommodate discussion and completion of all items on the agenda, the meeting may be extended from, or completed prior to the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on July 21, 2021, at 9 a.m. AST, and will end on July 21, 2021, at 4 p.m. AST. Other than the start time on the first day of the meeting, interested parties should be aware that discussions may start earlier or later than indicated in the agenda, at the discretion of the Chair.

Special Accommodations

Simultaneous interpretation will be provided.

For simultaneous interpretation English-Spanish-English follow your Zoom screen instructions. You will be asked which language you prefer when you join the meeting.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: June 25, 2021.
Tracey L. Thompson,
Acting Deputy Director, Office of Sustainable Fisheries, National Marine Fisheries Service.

[FR Doc. 2021-14005 Filed 6-30-21; 8:45 am]

BILLING CODE 3510-22-P